POSTAL SERVICE

Temporary Emergency Committee of the Board of Governors; Sunshine Act Meeting

DATES AND TIMES: Tuesday, September 27, 2016, at 12:15 p.m.

PLACE: Washington, DC, at U.S. Postal Service Headquarters, 475 L'Enfant Plaza SW., in the Benjamin Franklin Room, and via teleconference.

STATUS: Tuesday, September 27, 2016, at 12:15 p.m.—Closed; Tuesday, September 27, 2016, at 2:00 p.m.—Open.

MATTERS TO BE CONSIDERED:

Tuesday, September 27, 2016, at 12:15 p.m. (Closed)

1. Strategic Issues.

2. Financial Matters.

3. Pricing.

4. Compensation and Personnel Matters.

5. Governors' Executive Session—Discussion of prior agenda items and Board governance.

Tuesday, September 27, 2016, at 2:00 p.m. (Open)

1. Remarks of the Chairman of the Temporary Emergency Committee of the Board.

2. Remarks of the Postmaster General and CEO.

3. Approval of Minutes of Previous Meetings.

4. Committee Reports.

5. August YTD Financial Performance.

6. Quarterly Service Performance Report.

7. Approval of the Strategic Plan.

8. Tentative Agenda for the October, 11, 2016, teleconference.

CONTACT PERSON FOR MORE INFORMATION: Julie S. Moore, Secretary of the Board, U.S. Postal Service, 475 L'Enfant Plaza SW., Washington, DC 20260-1000. Telephone: (202) 268-4800.

Julie S. Moore,
Secretary.

[FR Doc. 2016-23251 Filed 9-22-16; 11:15 am]

BILLING CODE 7710-12-P